FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on October 7, 2003 (68 FR 57894) of the regular meeting of the Farm Credit Administration Board (Board) scheduled for October 9, 2003. This notice is to amend the agenda by removing the item from the closed session of that meeting.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board were open to the public (limited space available), and parts of this meeting were closed to the public. In order to increase the accessibility to Board meetings, persons requiring assistance should make arrangements in advance. The agenda for October 9, 2003, is amended by removing the following item from the closed session as follows:

Closed Session*

Reports

• East Carolina Farm Credit, ACA Class A Cumulative Preferred Stock

Dated: October 9, 2003.
Jeanette C. Brinkley,
Secretary, Farm Credit Administration Board.

*Session Closed—Exempt pursuant to 5 U.S.C. 552b(c)(4), (8) and (9).

[FR Doc. 03-26089 Filed 10-9-03; 3:29 pm]

BILLING CODE 6705-01-P